DEPARTMENT OF COMMERCE

National Oceanic and Atmospheric Administration

50 CFR Part 622

RIN 0648-BI96

Fisheries of the Caribbean, Gulf of Mexico, and South Atlantic; Shrimp Fishery of the Gulf of Mexico; Amendment 18

AGENCY: National Marine Fisheries Service (NMFS), National Oceanic and Atmospheric Administration (NOAA), Commerce.

ACTION: Notice of availability (NOA); request for comments.

SUMMARY: The Gulf of Mexico (Gulf) Fishery Management Council (Council) has submitted Amendment 18 to the Fishery Management Plan (FMP) for the Shrimp Fishery of the Gulf of Mexico, U.S. Waters (Amendment 18) for review, approval, and implementation by NMFS. If approved by the Secretary of Commerce, Amendment 18 would modify the target reduction goal for juvenile red snapper mortality in the Federal Gulf shrimp trawl fishery in the 10-30 fathom depth zone, and would modify the FMP management measures framework procedure. The purposes of Amendment 18 are to promote economic stability, to achieve optimum yield in the Federal Gulf shrimp fishery by reducing effort constraints, and to equitably distribute the benefits from red snapper rebuilding, while continuing to protect, the Gulf red snapper stock.

DATES: Written comments must be received on or before September 30, 2019.

ADDRESSES: You may submit comments on Amendment 18, identified by “NOAA-NMFS-2019-0045,” by either of the following methods:

• Electronic Submission: Submit all electronic public comments via the Federal e-Rulemaking Portal. Go to www.regulations.gov/#!docketDetail;D=NOAA-NMFS-2019-0045, click the “Comment Now!” icon, complete the required fields, and enter or attach your comments.

• Mail: Submit written comments to Frank Helies, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

Electronic copies of Amendment 18, which includes a fishery impact statement, a Regulatory Flexibility Act (RFA) analysis, and a regulatory impact review, may be obtained from the Southeast Regional Office website at https://www.fisheries.noaa.gov/action/amendment-18-modifying-shrimp-effort-threshold.

FOR FURTHER INFORMATION CONTACT: Frank Helies, telephone: 727-824-5305, or email: Frank.Helies@noaa.gov.

SUPPLEMENTARY INFORMATION: The Magnuson-Stevens Fishery Conservation and Management Act (Magnuson-Stevens Act) requires each regional fishery management council to submit any FMP or FMP amendment to NMFS for review, and approval, partial approval, or disapproval. The Magnuson-Stevens Act also requires that NMFS, upon receiving an FMP or amendment, publish an announcement in the Federal Register notifying the public that the FMP or amendment is available for review and comment.

The Council prepared the FMP being revised by Amendment 18, and if approved, Amendment 18 would be implemented by NMFS through regulations at 50 CFR part 622 under the authority of the Magnuson-Stevens Act.

Background

The 2005 Southeast Data, Assessment, and Review (SEDAR) 7 stock assessment for Gulf red snapper identified bycatch of red snapper by the Gulf shrimp fishery as a primary factor affecting the recovery of the stock (SEDAR 7 2005). The assessment indicated a need to reduce the red snapper bycatch mortality attributed to shrimp trawls by 74 percent, compared to levels of effort and mortality experienced during the baseline 2001-2003 period.

To end overfishing of red snapper and rebuild the stock by 2032 in compliance with the rebuilding plan, the Council developed Amendment 14 to the FMP to cap shrimp fishing effort in statistical zones 10-21 in 10-30 fathom (18.29 m-54.86 m) depth zone of the western Gulf (i.e., the area monitored for juvenile red snapper bycatch). The reduction goal for juvenile red snapper mortality was linked to a reduction in shrimp fishing effort of 74 percent below fishing effort during the baseline 2001-2003 period. The final rule for implementing this reduction published on January 29, 2008 (73 FR 5117). Consistent with Amendment 14, NMFS reduced the threshold level to 67 percent of the baseline in 2011. Amendment 14 also stated that the target reduction goal should decrease to 60 percent (i.e., shrimp effort could increase) by 2032 (the final year of the red snapper rebuilding plan); however, the framework procedure to implement this reduction was never established by the Council.

The Gulf shrimp fishery has not exceeded the allowable threshold effort levels established in Amendment 14. Since the early 2000s, the Gulf shrimp fishery has experienced economic losses, primarily as a result of high fuel costs and reduced sales prices caused by competition with imported shrimp. These economic losses have resulted in the reduction in the number of vessels within the fishery, and consequently, a reduction in commercial effort, when compared to historical levels.

Through Amendment 13 to the FMP, the Council took additional steps in 2006 to cap shrimp fishing effort in response to increased levels of bycatch of species including red snapper through establishment of the Federal commercial Gulf shrimp moratorium permit (71 FR 56039; September 26, 2006). The permit moratorium was later extended until October 26, 2026, by the final rule for Amendment 17A to the FMP (81 FR 47733; July 22, 2016) (50 CFR 622.50(b)).

The Gulf red snapper is no longer overfished or undergoing overfishing, and continues to rebuild, consistent with the rebuilding plan (SEDAR 52 2018). Also, as described in Amendment 18, recent research indicates that the effect of the shrimp fishery on red snapper mortality is less than previously determined. In response to a request by the Council, the NMFS Southeast Fisheries Science Center (SEFSC) conducted an analysis to determine if effort in the shrimp fishery could increase without affecting red snapper rebuilding. The SEFSC analyzed how increases in Gulf-wide may affect the red snapper rebuilding plan and catch level projections from the SEDAR 52 stock assessment. This analysis of Gulf-wide effort increases was used as a proxy for changes in effort in the specific area monitored for purposes of the threshold because the results from SEDAR 52 could not be broken out into specific depth areas in particular statistical zones. The analysis indicated that increasing shrimp effort to the level considered in Amendment 14 (60 percent below the baseline years of 2001-2003) is unlikely to affect the rebuilding timeline of red snapper, and would have little impact on red snapper annual catch limits.

Actions Contained in Amendment 18

Amendment 18 would modify the target reduction goal for juvenile red snapper mortality in the Federal Gulf shrimp trawl fishery, and would modify the FMP framework procedures.

Target Reduction Goal

Amendment 18 would reduce the trawl bycatch mortality on red snapper to 60 percent below the baseline effort in the years 2001-2003. Although the Gulf red snapper stock is in a rebuilding plan until 2032, it is no longer overfished or undergoing overfishing (SEDAR 52 2018). While the red snapper stock acceptable biological catch (ABC) has consistently increased under the rebuilding plan, the target reduction goal of shrimp trawl bycatch mortality on red snapper has remained the same since 2011. The higher the target reduction of shrimp trawl bycatch mortality on red snapper, the more likely that the effort threshold would be exceeded, triggering a seasonal closure for the Gulf shrimp fishery. Although a shrimp closure has not been implemented to date as a result of effort reaching the threshold, shrimp effort has come within 2 percent of the 67-percent threshold in 2014, 2016, and 2017, indicating that a future commercial shrimp closure could occur. As noted previously, the analysis done by the SEFSC indicates that allowing shrimp effort to increase consistent with the lower threshold would not impact the red snapper rebuilding plan and would have only a small impact on red snapper catch levels. The projected reduction in the red snapper ABC in the short term (over the next 3 years) is no more than 100,000 lb (45,359 kg) per year and, in the long term, no more than 200,000 lb (90,719 kg) per year.

FMP Framework Procedures

Amendment 18 would revise the FMP framework procedure to allow changes to the target reduction goal for juvenile red snapper mortality through the standard open framework documentation process. Amendment 18 would also modify the FMP abbreviated documentation process to allow specification of an ABC recommended by the Council's Scientific and Statistical Committee based on results of a new stock assessment and using the Council's ABC control rule. The changes to the framework process in Amendment 18 would provide for consistency across all abbreviated framework procedures under the Council's jurisdiction and would facilitate faster management action, if necessary, for the Council by providing a more streamlined approach to modify any future effort reduction goals.

Proposed Rule for Amendment 18

A proposed rule that would implement Amendment 18 has been drafted. In accordance with the Magnuson-Stevens Act, NMFS is evaluating the proposed rule to determine whether it is consistent with the FMP, the Magnuson-Stevens Act, and other applicable laws. If that determination is affirmative, NMFS will publish the proposed rule in the Federal Register for public review and comment.

Consideration of Public Comments

The Council has submitted Amendment 18 for Secretarial review, approval, and implementation. Comments on Amendment 18 must be received by September 30, 2019. Comments received during the respective comment periods, whether specifically directed to Amendment 18 or the proposed rule, will be considered by NMFS in the decision to approve, disapprove, or partially approve Amendment 18. All comments received by NMFS on the amendment or the proposed rule during their respective comment periods will be addressed in the final rule.

Authority: 16 U.S.C. 1801 et seq.

Dated: July 29, 2019.
Alan D. Risenhoover,
Director, Office of Sustainable Fisheries, National Marine Fisheries Service.

[FR Doc. 2019-16420 Filed 7-31-19; 8:45 am]

BILLING CODE 3510-22-P